DEPARTMENT OF ENERGY

Federal Energy Regulatory Commission

[Docket No. CP06-126-000]

Texas Gas Transmission, LLC; Notice of Application

April 25, 2006.

Take notice that on April 14, 2006, Texas Gas Transmission, LLC (Texas Gas), 3800 Frederica Street, Owensboro, Kentucky 42301, filed in Docket No. CP06-126-000, an application pursuant to section 7 of the Natural Gas Act (NGA) for authorization to construct, install and operate one new turbine compressor at the Slaughters Compressor Station located in Webster County, Kentucky; two new reciprocating engine driven gas compressors at the Hanson Compressor Station, and two new horizontal injection/withdrawal wells in the Hanson Gas Storage Field, located in Hopkins County, Kentucky; five new horizontal injection/withdrawal wells along with the abandonment of two existing wells in the Midland Gas Storage Field, and a 2,000,000 MMBtu increase in the certificated capacity of the Midland Gas Storage Field, located in Muhlenberg County, Kentucky). Additionally, Texas Gas seeks authorization to increase firm withdrawals from its Midland Gas Storage Field and its Hanson Gas Storage Field by a total of 100,749 MMBtu per day, all as more fully set forth in the application which is on file with the Commission and open to public inspection. This filing may be also viewed on the Web at http://www.ferc.gov using the “eLibrary” link. Enter the docket number excluding the last three digits in the docket number field to access the document. For assistance, call (866) 208-3676 or TTY, (202) 502-8659.

Any questions concerning this application may be directed to Kathy D. Fort, Manager of Certificates and Tariffs, Texas Gas Transmission, LLC, P.O. Box 20008, Owensboro, Kentucky 42304.

There are two ways to become involved in the Commission's review of this project. First, any person wishing to obtain legal status by becoming a party to the proceedings for this project should, before the comment date of this notice, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's Web site under the “e-Filing” link.

Comment Date: 5 p.m. eastern time on May 15, 2006.

Magalie R. Salas,
Secretary.

[FR Doc. E6-6570 Filed 5-1-06; 8:45 am]

BILLING CODE 6717-01-P